DEPARTMENT OF TRANSPORTATION

Surface Transportation Board

[Docket No. FD 35648]

Penn-Ohio Transportation, LLC—Acquisition Exemption—Eastern States Railroad, LLC and Columbiana County Port Authority

Penn-Ohio Transportation, LLC (Penn-Ohio), a noncarrier, has filed a verified notice of exemption under 49 CFR 1150.31 to: (1) Acquire from Eastern States Railroad, LLC (ESR), its lease and operating rights to approximately 35.7 miles of rail line, referred to as the Youngstown-Darlington Line, extending between milepost 0.0 in Youngstown, Ohio, and milepost 35.7 in Darlington, Pa., currently operated by the Youngstown & Southeastern Railway Company (YSRC) and owned by Columbiana County Port Authority (CCPA); (2) receive permanent assignment of ESR's and CCPA's agreements and operating rights to approximately 3 miles of continuous track segments running east of milepost 0.0 that connect to the Youngstown-Darlington Line and that facilitate interchange with Norfolk Southern Railway Company and CSX Transportation, Inc.; and (3) acquire from CCPA the Youngstown-Darlington Line, as well as any operating rights held by CCPA.

Penn-Ohio intends to continue to have YSRC operate the line or to lease the line to a new operator, which would seek appropriate authority from the Board. Penn-Ohio states that it will retain a residual common carrier obligation on the line.

The transaction may be consummated on or after August 12, 2012, the effective date of the exemption (30 days after the notice of exemption was filed).

Penn-Ohio certifies that its projected annual revenues as a result of this transaction will not exceed $5 million and will not result in the creation of a Class I or Class II rail carrier.

If the verified notice contains false or misleading information, the exemption is void ab initio. Petitions to revoke the exemption under 49 U.S.C. 10502(d) may be filed at any time. The filing of a petition to revoke will not automatically stay the effectiveness of the exemption. Stay petitions must be filed no later than August 3, 2012 (at least 7 days before the exemption becomes effective).

An original and 10 copies of all pleadings, referring to Docket No. FD 35648, must be filed with the Surface Transportation Board, 395 E Street SW., Washington, DC 20423-0001. In addition, one copy of each pleading must be served on David M. Williamson, Alston & Bird, LLP, The Atlantic Building, 950 F Street, Washington, DC 20004.

Board decisions and notices are available on our Web site at www.stb.dot.gov.

Decided: July 23, 2012.
By the Board, Richard Armstrong, Acting Director, Office of Proceedings.
Raina S. White,
Clearance Clerk.

[FR Doc. 2012-18369 Filed 7-26-12; 8:45 am]

BILLING CODE 4915-01-P